DEPARTMENT OF LABOR

Employment and Training Administration

Notice of Determinations Regarding Eligibility To Apply for Trade Adjustment Assistance

In accordance with the Section 223 (19 U.S.C. 2273) of the Trade Act of 1974 (19 U.S.C. 2271, et seq.) (“Act”), as amended, the Department of Labor herein presents summaries of determinations regarding eligibility to apply for trade adjustment assistance under Chapter 2 of the Act (“TAA”) for workers by (TA-W) number issued during the period of November 1, 2019 through November 30, 2019. (This Notice primarily follows the language of the Trade Act. In some places however, changes such as the inclusion of subheadings, a reorganization of language, or “and,” “or,” or other words are added for clarification.)

Section 222(a)—Workers of a Primary Firm

In order for an affirmative determination to be made for workers of a primary firm and a certification issued regarding eligibility to apply for TAA, the group eligibility requirements under Section 222(a) of the Act (19 U.S.C. 2272(a)) must be met, as follows:

(1) The first criterion (set forth in Section 222(a)(1) of the Act, 19 U.S.C. 2272(a)(1)) is that a significant number or proportion of the workers in such workers' firm (or “such firm”) have become totally or partially separated, or are threatened to become totally or partially separated;

AND (2(A) or 2(B) Below)

(2) The second criterion (set forth in Section 222(a)(2) of the Act, 19 U.S.C. 2272(a)(2)) may be satisfied by either (A) the Increased Imports Path, or (B) the Shift in Production or Services to a Foreign Country Path/Acquisition of Articles or Services from a Foreign Country Path, as follows:

(A) Increased Imports Path

(i) the sales or production, or both, of such firm, have decreased absolutely;

AND (ii and iii Below)

(ii)(I) imports of articles or services like or directly competitive with articles produced or services supplied by such firm have increased; OR

(II)(aa) imports of articles like or directly competitive with articles into which one or more component parts produced by such firm are directly incorporated, have increased; OR

(II)(bb) imports of articles like or directly competitive with articles which are produced directly using the services supplied by such firm, have increased; OR

(III) imports of articles directly incorporating one or more component parts produced outside the United States that are like or directly competitive with imports of articles incorporating one or more component parts produced by such firm have increased;

AND

(iii) the increase in imports described in clause (ii) contributed importantly to such workers' separation or threat of separation and to the decline in the sales or production of such firm; OR

(B) Shift in Production or Services to a Foreign Country Path OR Acquisition of Articles or Services From a Foreign Country Path

(i)(I) there has been a shift by such workers' firm to a foreign country in the production of articles or the supply of services like or directly competitive with articles which are produced or services which are supplied by such firm; OR

(II) such workers' firm has acquired from a foreign country articles or services that are like or directly competitive with articles which are produced or services which are supplied by such firm;

AND

(ii) the shift described in clause (i)(I) or the acquisition of articles or services described in clause (i)(II) contributed importantly to such workers' separation or threat of separation.

Section 222(b)—Adversely Affected Secondary Workers

In order for an affirmative determination to be made for adversely affected secondary workers of a firm and a certification issued regarding eligibility to apply for TAA, the group eligibility requirements of Section 222(b) of the Act (19 U.S.C. 2272(b)) must be met, as follows:

(1) a significant number or proportion of the workers in the workers' firm or an appropriate subdivision of the firm have become totally or partially separated, or are threatened to become totally or partially separated;

AND

(2) the workers' firm is a supplier or downstream producer to a firm that employed a group of workers who received a certification of eligibility under Section 222(a) of the Act (19 U.S.C. 2272(a)), and such supply or production is related to the article or service that was the basis for such certification (as defined in subsection 222(c)(3) and (4) of the Act (19 U.S.C. 2272(c)(3) and (4));

AND

(3) either—

(A) the workers' firm is a supplier and the component parts it supplied to the firm described in paragraph (2) accounted for at least 20 percent of the production or sales of the workers' firm; OR

(B) a loss of business by the workers' firm with the firm described in paragraph (2) contributed importantly to the workers' separation or threat of separation determined under paragraph (1).

Section 222(e)—Firms Identified by the International Trade Commission

In order for an affirmative determination to be made for adversely affected workers in firms identified by the International Trade Commission and a certification issued regarding eligibility to apply for TAA, the group eligibility requirements of Section 222(e) of the Act (19 U.S.C. 2272(e))must be met, by following criteria (1), (2), and (3) as follows:

(1) the workers' firm is publicly identified by name by the International Trade Commission as a member of a domestic industry in an investigation resulting in—

(A) an affirmative determination of serious injury or threat thereof under section 202(b)(1) of the Act (19 U.S.C. 2252(b)(1)); OR

(B) an affirmative determination of market disruption or threat thereof under section 421(b)(1) of the Act (19 U.S.C. 2436(b)(1)); OR

(C) an affirmative final determination of material injury or threat thereof under section 705(b)(1)(A) or 735(b)(1)(A) of the Tariff Act of 1930 (19 U.S.C. 1671d(b)(1)(A) and 1673d(b)(1)(A));

AND

(2) the petition is filed during the 1-year period beginning on the date on which—

(A) a summary of the report submitted to the President by the International Trade Commission under section 202(f)(1) of the Trade Act (19 U.S.C. 2252(f)(1)) with respect to the affirmative determination described in paragraph (1)(A) is published in the Federal Register under section 202(f)(3) (19 U.S.C. 2252(f)(3)); OR

(B) notice of an affirmative determination described in subparagraph (B) or (C)of paragraph (1) is published in the Federal Register;

AND

(3) the workers have become totally or partially separated from the workers' firm within—

(A) the 1-year period described in paragraph (2); OR

(B) notwithstanding section 223(b) of the Act (19 U.S.C. 2273(b)), the 1-year period preceding the 1-year period described in paragraph (2).

Affirmative Determinations for Trade Adjustment Assistance

The following certifications have been issued. The date following the company name and location of each determination references the impact date for all workers of such determination.

The following certifications have been issued. The requirements of Section 222(a)(2)(A) (Increased Imports Path) of the Trade Act have been met.

TA-W No. | Subject firm | Location | Impact date
94,979 | Carl Zeiss Vision Inc., Carl Zeiss Vision International GmbH | Independence, MO | July 10, 2018.
95,048 | Tucker Powersports, Motorsport Aftermarket Group, PDQ Temporaries | Fort Worth, TX | August 5, 2018.
95,305 | Remington Arms, First Choice Staffing | Ilion, NY | October 18, 2018.

The following certifications have been issued. The requirements of Section 222(a)(2)(B) (Shift in Production or Services to a Foreign Country Path or Acquisition of Articles or Services from a Foreign Country Path) of the Trade Act have been met.

TA-W No. | Subject firm | Location | Impact date
94,702 | Rosenberger North America | Plano, TX | April 4, 2018.
94,728 | Intel Corporation, Information Technology, Hawthorne Farm Campus, etc | Hillsboro, OR | February 3, 2019.
94,728A | Intel Corporation, Information Technology, Hawthorne Farm Campus, etc | Hillsboro, OR | April 11, 2018.
94,728B | On-site Leased Workers from 123 Enterprises, Accenture, etc., Intel Corporation, Information Technology, Hawthorne Farm Campus | Hillsboro, OR | April 11, 2018.
94,728C | Intel Corporation, Information Technology, Ronler Acres Campus, 123 Enterprises, etc | Hillsboro, OR | April 11, 2018.
94,735 | Leggett & Platt, Inc., Consumer Products Group, Adjustable Bed Group, Branch 0797, etc | Neosho, MO | April 17, 2018.
94,763 | PerkinElmer Health Sciences, Inc., Accounting Unit | Shelton, CT | April 26, 2018.
94,786 | Silver Star Brands, Crosby Rock | Oshkosh, WI | May 6, 2018.
94,793 | Lumedx Inc. | Bellevue, WA | May 7, 2018.
94,822 | Vtech Communications, Renhill Staffing Services, Workforce Logiq | Beaverton, OR | May 16, 2018.
94,846 | A123 Systems LLC, Adecco—USA | Romulus, MI | July 25, 2019.
94,846A | A123 Systems LLC, Adecco—USA | Livonia, MI | July 25, 2019.
94,871 | Blue Cross and Blue Shield, Blue Cross Blue Shield of Minnesota, Claims Processor Division, etc | Eagan, MN | June 4, 2018.
94,881 | Stratus Video Language Company, Manpower, Randstad | Dallas, TX | June 5, 2018.
94,890 | FCT US LLC, Jaci Carroll, Hamilton Connections | Torrington, CT | June 12, 2018.
94,919 | Flexsteel Industries, Staffmark, Employment Solutions, York Employment | Riverside, CA | June 20, 2018.
94,929 | Muzak LLC, Mood Media, Customer Service Division | Austin, TX | June 21, 2018.
94,973 | DXC Technology Services LLC, DXC Technology Company | Plano, TX | July 5, 2018.
94,981 | Masonite Corporation, Baron HR, Delta Infotech, Employbridge, Target CW, Randstad, etc | Stockton, CA | July 10, 2018.
94,984 | Salter Labs, Aerotek, Pridestaff | Vista, CA | July 11, 2018.
94,999 | Synopsys, Inc., Design Group, PRO Unlimited | Hillsboro, OR | July 16, 2018.
94,999A | Synopsys, Inc., Verification Group, Vayavya Labs | Hillsboro, OR | July 16, 2018.
94,999B | Synopsys, Inc., Silicon Engineering Group, PRO Unlimited, Manceps, Inc., TalentBurst | Hillsboro, OR | July 16, 2018.
95,006 | Pro-Mark, LLC, Your Employment Solutions | North Salt Lake, UT | July 19, 2018.
95,013 | Medtronic Plc, Restorative Therapies Group, Aerotek, Artech Information Systems, ATR, etc | Goleta, CA | July 23, 2018.
95,028 | State Street Corporation, USIS Client Reporting | Boston, MA | July 30, 2018.
95,031 | Cenveo Publishing Services, Lancaster Content division, Cenveo Worldwide Limited, Cenveo Incorporated | Lancaster, PA | July 31, 2018.
95,053 | Filson Manufacturing, CC Filson Co., 1741 1st Avenue South | Seattle, WA | August 6, 2018.
95,053A | Filson Manufacturing, CC Filson Co., 1555 4th Avenue South | Seattle, WA | August 6, 2018.
95,093 | Norma Kamali Inc. | New York, NY | August 19, 2018.
95,099 | Optum Technology, United Healthcare Services, IT Service Desk, etc | Johnston, RI | August 20, 2018.
95,154 | Sigue Corporation | Sylmar, CA | September 6, 2018.
95,171 | Forever 21, Inc., Human Resources | Los Angeles, CA | September 10, 2018.
95,171A | Forever 21, Inc., Payroll | Los Angeles, CA | September 10, 2018.
95,171B | Forever 21, Inc., Information Technology | Los Angeles, CA | September 10, 2018.
95,173 | Virtual Business Office Associates, Tax VBO Division, A Division of Recruiting Solution | Columbia, SC | September 5, 2018.
95,178 | Honeywell International Inc., Safety & Productivity Solutions—Technical Support Job Function, PDS Tech | Smithfield, RI | September 12, 2018.
95,182 | Waitr, Inc., Waitr Holdings Inc., Landcadia Holdings, Inc | Lafayette, LA | September 12, 2018.
95,182A | Waitr, Inc., Waitr Holdings Inc., Landcadia Holdings, Inc | Lake Charles, LA | September 12, 2018.
95,184 | Del Monte Foods, Inc., Del Monte Foods Holdings Limited, Express Employment Professionals | Mendota, IL | September 12, 2018.
95,203 | Bose Corporation, Digital Office, Corporate Information Services Department, Randstad, etc | Stow, MA | March 29, 2019
95,206 | Honeywell Safety Products, Safety & Productivity Solutions-Technical Support Job Function, etc | Franklin, PA | September 23, 2018.
95,227 | Franklin Electric, Co. Inc., The Hughes Agency, Express Employment Services | Little Rock, AR | September 26, 2018.
95,231 | Sea World of Florida LLC, Call Center Division, Sea World Parks & Entertainment Inc., Alorica | Orlando, FL | September 27, 2018.
95,255 | Cohu Interface Solutions LLC (Cohu), Everett Charles Technologies, Cohu, Chartwell Staffing Services, etc | Fontana, CA | October 4, 2018.
95,256 | Johnson Controls, Inc., Building Technologies & Solutions division, Johnson Controls International | Indianapolis, IN | October 4, 2018.
95,270 | Emerald Mississippi, Emerald Home Furnishing division, Emerald Home Furnishing | New Albany, MS | October 9, 2018.
95,272 | Molex, Koch Industries, Oasis Staffing, King Bird Facility | Lincoln, NE | October 9, 2018.
95,272A | Molex, Koch Industries, Oasis Staffing, West Bond Facility | Lincoln, NE | October 9, 2018.
95,274 | Chelton Inc., Cobham Aerospace Connectivity Division, Cobham Plc, Robert Half | Lewisville, TX | October 10, 2018.
95,282 | Key Safety Systems dba Joyson Safety Systems, Ningbo Joyson Electronic, Randstad US, Express Employment Professionals | Knoxville, TN | October 11, 2018.
95,284 | Tri-Star Electronics International, Inc., Carlisle Internconnect Technologies (CIT) Division, Amtec, Skillset Group | Riverside, CA | October 15, 2018.
95,289 | Hydro Extrusion North America, LLC, Norsk Hydro ASA, Manpower | Kalamazoo, MI | October 16, 2018.
95,290 | Aprima Medical Software, Inc., Accounts Receivable department, eMDs, Inc | Richardson, TX | October 17, 2018.
95,293 | Conduent Commercial Solutions, LLC, Conduent Incorporated | Boca Raton, FL | October 17, 2018.
95,297 | Providence Health & Services—Washington, Providence St. Joseph Health Shared Services, Talent Acquisition, etc | Medford, OR | October 17, 2018.
95,297A | Providence Health & Services—Washington, Providence St. Joseph Health Shared Services, Talent Acquisition, etc | Portland, OR | October 17, 2018.
95,315 | IEEE, Editorial Services Department, Publications Unit | Piscataway, NJ | August 12, 2019.
95,315A | Winston Personnel Services, IEEE, Editorial Services Department, Publications Unit | Piscataway, NJ | October 22, 2018.
95,324 | Citibank, N.A., Finance—Global Consumer—Citi Retail Services, Citicorp LLC | Gray, TN | October 24, 2018.
95,346 | Citicorp Credit Services, Inc. (USA), Global Consumer Technology—NAM Application Development & Maintenance, etc | Elk Grove Village, IL | November 1, 2018.
95,352 | Regal Beloit America, Inc., Regal Beloit Corporation, West Plains Division | West Plains, MO | November 4, 2018.
95,353 | The Terminix International Company, L.P., Memphis Contact Center | Memphis, TN | November 4, 2018.
95,373 | Certified Oil Company, Euro Garages | Columbus, OH | November 14, 2018.

The following certifications have been issued. The requirements of Section 222(b) (downstream producer to a firm whose workers are certified eligible to apply for TAA) of the Trade Act have been met.

TA-W No. | Subject firm | Location | Impact date
94,948 | Falcon Transport Co., CP-FTC Holdings LLC, GD Leasing of Indiana LLC | La Vergne, TN | June 26, 2018.
94,957 | Product Assurance Services, Inc | St. Marys, PA | June 28, 2018.

The following certifications have been issued. The requirements of Section 222(e) (firms identified by the International Trade Commission) of the Trade Act have been met.

TA-W No. | Subject firm | Location | Impact date
94,556 | Aleris Davenport Casting Mill, Robert Half, Team Staffing Solutions, Inc | Davenport, IA | November 15, 2017.
94,557 | Aleris Davenport Rolling Mill, Robert Half, Team Staffing Solutions, Inc | Davenport, IA | November 15, 2017.
95,302 | Interlake Mecalux, Inc., Mecalux, S.A., Superior Staffing, ClearStaff, UniStaff, Accurate Personnel | Melrose Park, IL | September 13, 2018.
95,302A | Interlake Mecalux, Inc., Mecalux, S.A., Manpower, Express Employment Professionals, StaffQuick | Pontiac, IL | September 13, 2018.

Negative Determinations for Worker Adjustment Assistance

In the following cases, the investigation revealed that the eligibility criteria for TAA have not been met for the reasons specified.

The investigation revealed that the criteria under paragraphs (a)(2)(A)(i) (decline in sales or production, or both), or (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
94,149 | GlobalFoundries U.S. Inc., Superior Group, Yoh | Malta, NY. |
94,149A | GlobalFoundries U.S. Inc. | Albany, NY. |
94,546 | The Gunlocke Company, HNI Corporation, Remedy Intelligent Staffing | Wayland, NY. |
94,634 | Mersen USA, Administrative Duties Division, Mersen USA BN Corporation, Texip, etc | Newburyport, MA. |

The investigation revealed that the criteria under paragraphs (a)(2)(A) (increased imports), (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
94,563 | Pyramid Consulting, Inc., AT&T Mobility LLC | San Ramon, CA. |
94,710 | Claims Recovery Financial Services LLC | Albion, NY. |
94,719 | Johnson Crushers International, Inc., Astec Industries, Inc | Eugene, OR. |
94,813 | AEP Generation Resources, Inc., Conesville Plant, AEP Energy Supply, Industrial Contractors Skanska, etc | Conesville, OH. |
94,980 | Erie Coke Corporation, Garner LLC, Spresters Industrial Services, Kirchner LLC | Erie, PA. |
95,002 | P-D Valmiera Glass USA Corp., VALMIERAS STIKLA SKIEDRA, AS, Trace Staffing Solutions | Dublin, GA. |
95,160 | Payless ShoeSource, Inc., North Figueroa Street location, Payless Holdings LLC | Los Angeles, CA. |
95,160A | Payless ShoeSource, Inc., Burbank Town Center location, Payless Holdings LLC | Burbank, CA. |
95,169 | Corn Plus | Winnebago, MN. |

Determinations Terminating Investigations of Petitions for Trade Adjustment Assistance

After notice of the petitions was published in the Federal Register and on the Department's website, as required by Section 221 of the Act (19 U.S.C. 2271), the Department initiated investigations of these petitions.

The following determinations terminating investigations were issued because the petitioner has requested that the petition be withdrawn.

TA-W No. | Subject firm | Location | Impact date
94,828 | Eni USA R&M Company, Inc. | Cabot, PA. |
95,105 | Tomlinson Industries LLC | Garfield Heights, OH. |
95,148 | Verso Luke LLC, NewPage Corporation | Luke, MD. |

The following determinations terminating investigations were issued because the worker group on whose behalf the petition was filed is covered under an existing certification.

TA-W No. | Subject firm | Location | Impact date
94,580 | Faurecia Emissions Control Technologies USA, LLC, Clean Mobility Division | Dexter, MO. |
94,847 | A123 Systems LLC, Adecco—USA | Livonia, MI. |
95,163 | qHub Logistics Corporation, Hon Hai/Foxconn Technology Group | Plainfield, IN. |
95,215 | Ruen Drilling, Teck Washington Incorporated, Pend Oreille Operations | Metaline Falls, WA. |
95,230 | Kyyba Inc., Harman International Industries, Inc., Samsung Electronics, Connected Car | Novi, MI. |
95,247 | Workers from Palm Springs, California, Gannett Satellite Information Network, LLC, Gannett Technology, Gannett Co | Palm Springs, CA. |

The following determinations terminating investigations were issued because the petitioning group of workers is covered by an earlier petition that is the subject of an ongoing investigation for which a determination has not yet been issued.

TA-W No. | Subject firm | Location | Impact date
94,716 | Zinus | Tracy, CA. |
95,244 | Wholesome Harvest Baking LLC Grupo Bimbo | Richmond, CA. |

I hereby certify that the aforementioned determinations were issued during the period of November 1, 2019 through November 30, 2019. These determinations are available on the Department's website https://www.doleta.gov/tradeact/petitioners/taa_search_form.cfm under the searchable listing determinations or by calling the Office of Trade Adjustment Assistance toll free at 888-365-6822.

Signed at Washington DC this 6th day of December 2019.
Hope D. Kinglock,
Certifying Officer, Office of Trade Adjustment Assistance

[FR Doc. 2019-27327 Filed 12-18-19; 8:45 am]

BILLING CODE 4510-FN-P